DEPARTMENT OF THE TREASURY

Internal Revenue Service

Community Volunteer Income Tax Assistance (VITA) Matching Grant Program—Availability of Application Packages

AGENCY: Internal Revenue Service (IRS), Treasury.

ACTION: Notice.

SUMMARY: This document provides notice of the availability of application packages for the 2012 Community Volunteer Income Tax Assistance (VITA) Matching Grant Program.

DATES: Application packages are available from the IRS on May 23, 2011. The deadline for submitting an application to the IRS for the Community VITA Matching Grant Program is June 30, 2011. Electronic copies of the application package can be obtained by visiting: IRS.gov (key word search—“VITA Grant”) or Grants.gov. Application packages may also be requested by sending an e-mail to Grant.Program.Office@irs.gov. Applications may be submitted electronically through Grants.gov or via hardcopy by the United States Postal Service, mail, or private delivery service by the deadline date.

ADDRESSES: Internal Revenue Service, Grant Program Office, 401 West Peachtree St., NW., Suite 1645, Stop 420-D, Atlanta, GA 30308.

FOR FURTHER INFORMATION CONTACT: Grant Program Office (404) 338-7894 (not a toll free number). The e-mail address is Grant.Program.Office@irs.gov.

SUPPLEMENTARY INFORMATION: Authority for the Community Volunteer Income Tax Assistance (VITA) Matching Grant Program is contained in the Department of Defense and Full-Year Continuing Appropriations Act, 2011, Public Law 112-10, signed April 15, 2011.

Dated: May 9, 2011.
Robin Taylor,
Chief, Grant Program Office, IRS, Stakeholder Partnerships, Education & Communication.

[FR Doc. 2011-12797 Filed 5-23-11; 8:45 am]

BILLING CODE 4830-01-P